DEPARTMENT OF COMMERCE

Foreign-Trade Zones Board

Foreign-Trade Zone 138—Columbus, OH Area; Site Renumbering Notice

Foreign-Trade Zone 138 was approved by the Foreign-Trade Zones Board on March 13, 1987 (Board Order 351), expanded on February 23, 1994 (Board Order 685), on November 9, 1999 (Board Order 1063), on May 29, 2001 (Board Order 1166), and on December 19, 2008 (Board Order 1311), and reorganized/expanded on November 2, 2007 (Board Order 1530).

FTZ 138 currently consists of 12 “sites” totaling 4,491 acres in the Columbus area. The current update does not alter the physical boundaries that have previously been approved, but instead involves an administrative renumbering that separates certain non-contiguous sites for record-keeping purposes. (Note: Sites 7 through 11 have expired and those numbers will not be reused.)

Under this revision, the site list for FTZ 138 will be as follows: Site 1 (3,787 acres)—portions of the Rickenbacker Inland Port to include certain acreage within the Rickenbacker International Airport and Air Industrial Park, Alum Creek East Industrial Park, Alum Creek West Industrial Park, and Groveport Commerce Center; Site 2 (136 acres)—Gateway Business Park, McClain Road, Lima; Site 3 (42 acres)—within the 90-acre Gateway Interchange Industrial Park, State Route 104 and U.S. Route 35, Chillicothe; Site 4 (64 acres, 2 parcels)—within the 960-acre Rock Mill Industrial Park, south of Mill Park Drive, Lancaster; Site 5 (133 acres)—within the 149-acre D.O. Hall Business Center, SR 660 and north of Reitler Road, Cambridge; Site 6 (74 acres, 2 parcels)—within the Eagleton Industrial Park, SR 142 and west of Spring Valley Road, London; Site 12 (31 acres)—Marion Industrial Park, 1110 Cheney Avenue, Marion; Site 13 (41 acres)—Capital Park South, 3125-3325 Lewis Centre Way, Grove City; Site 14 (27 acres)—Southpointe Industrial Park, 3901 Gantz Road, Grove City; Site 15 (50 acres, sunset 12/31/2011)—Columbus Industrial District located at 4545 Fisher Road, Columbus; Site 16 (74 acres, expires 9/1/2010)—located at 1809 Wilson Road, Columbus; Site 17 (9 acres, expires 7/31/2011)—Quarry East Commerce Center (Drew Shoe Company), located at 252 Quarry Road, Lancaster; Site 18 (22 acres, expires 9/1/2010)—located at 700 Manor Park, Columbus; and, Site 19 (1 acre, expires 9/1/2010)—located at 330 Oak Street, Columbus.

For further information, contact Claudia Hausler at Claudia.Hausler@trade.gov or (202) 482-1379.

Dated: May 18, 2010.
Andrew McGilvray,
Executive Secretary.

[FR Doc. 2010-12801 Filed 5-26-10; 8:45 am]

BILLING CODE 3510-DS-P